INTERNATIONAL TRADE COMMISSION

[Investigation Nos. 701-TA-481 and 731-TA-1190 (Final)]

Crystalline Silicon Photovoltaic Cells and Modules From China

Determinations

On the basis of the record ¹ developed in the subject investigations, the United States International Trade Commission (Commission) determines, pursuant to sections 705(b) and 735(b) of the Tariff Act of 1930 (19 U.S.C.1671d(b)) and (19 U.S.C. 1673d(b)) (the Act), that an industry in the United States is materially injured by reason of imports of crystalline silicon photovoltaic cells and modules from China, provided for in subheadings 8501.31.80, 8501.61.00, 8507.20.80, and 8541.40.60 of the Harmonized Tariff Schedule of the United States, that the U.S. Department of Commerce (Commerce) has determined are subsidized and sold in the United States at less than fair value.²

¹ The record is defined in sec. 207.2(f) of the Commission's Rules of Practice and Procedure (19 CFR 207.2(f)).

² All six Commissioners voted in the affirmative. Commissioners Daniel R. Pearson, Shara L. Aranoff, David S. Johanson, and Meredith M. Broadbent also find that imports subject to Commerce's affirmative critical circumstances determinations are not likely to undermine seriously the remedial effect of the countervailing and antidumping duty orders on crystalline silicon photovoltaic cells and modules from China. Chairman Irving A. Williamson and Commissioner Dean A. Pinkert made affirmative critical circumstances determinations with respect to all imports subject to Commerce's affirmative critical circumstances determinations.

Background

The Commission instituted these investigations effective October 19, 2011, following receipt of petitions filed with the Commission and Commerce by Solar World Industries America, Hillsboro, OR. The final phase of these investigations was scheduled by the Commission following notification of preliminary determinations by Commerce that imports of crystalline silicon photovoltaic cells and modules from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on June 13, 2012 (77 FR 35425). The hearing was held in Washington, DC, on October 3, 2012, and all persons who requested the opportunity were permitted to appear in person or by counsel.

The Commission transmitted its determinations in these investigations to the Secretary of Commerce on November 30, 2012. The views of the Commission are contained in USITC Publication 4360 (November 2012), entitled Crystalline Silicon Photovoltaic Cells and Modules from China: Investigation Nos. 701-TA-481 and 731-TA-1190 (Final).

By order of the Commission.
Issued: November 30, 2012.
Lisa R. Barton,
Acting Secretary to the Commission.

[FR Doc. 2012-29440 Filed 12-5-12; 8:45 am]

BILLING CODE 7020-02-P